FEDERAL COMMUNICATIONS COMMISSION

Notice of Public Information Collection(s) Being Reviewed by the Federal Communications Commission for Extension Under Delegated Authority

November 19, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments January 27, 2004. If you anticipate that you will be submitting comments, but find it difficult to do so within the period of time allowed by this notice, you should advise the contact listed below as soon as possible.

ADDRESSES: Direct all Paperwork Reduction Act (PRA) comments to Judith B. Herman, Federal Communications Commission, 445 12th Street, SW, Room 1-C804, Washington, DC 20554 or via the Internet to Judith-B.Herman@fcc.gov.

FOR FURTHER INFORMATION CONTACT: For additional information or copies of the information collections contact Judith B. Herman at 202-418-0214 or via the Internet at Judith-B.Herman@fcc.gov.

SUPPLEMENTARY INFORMATION:

OMB Control No.: 3060-0392.

Title: 47 CFR Part 1, Subpart J, Pole Attachment Complaint Procedures.

Form No.: N/A.

Type of Review: Extension of a currently approved collection.

Respondents: Business or other for profit and state, local, or tribal government.

Number of Respondents: 1,802.

Estimated Time Per Response: 5 hours.

Frequency of Response: On occasion reporting requirement and third party disclosure requirement.

Total Annual Burden: 2,693 hours.

Annual Cost Burden: $300,000.

Needs and Uses: The rules and regulations contained in 47 CFR part 1, subpart J, provide complaint and enforcement procedures to ensure that telecommunications carriers and cable system operators have nondiscriminatory access to utility poles, ducts, conduits, and rights-of-way on rates, terms and conditions that are just and reasonable. The information collected under these rules will be used by FCC to hear and resolve petitions for stay and complaints as mandated by Section 224 of the Communications Act of 1934, as amended. Information filed is used to determine the merits of the petitions and complaints. Additionally, state certifications are used to make public notice of the states' authority to regulate rates, terms, and conditions for pole attachments, and to determine the scope of the FCC's jurisdiction.

OMB Control No.: 3060-0961.

Title: 2000 Biennial Regulatory Review—Comprehensive Review of the Accounting Requirements and ARMIS Reporting Requirements for Incumbent Local Exchange Carriers; Phase 2 and Phase 3, CC Docket No. 00-199.

Form Nos. and Report Nos.: FCC Reports 43-01, 43-02, 43-03, 43-04, 43-05, 43-07, 43-08, FCC Forms 495A and 495-B.

Type of Review: Extension of a currently approved collection.

Respondents: Business or other for-profit entities.

Number of Respondents: 1.

Estimated Time Per Response: 1 hour.

Frequency of Response: On occasion and annual reporting requirements and recordkeeping requirement.

Total Annual Burden: 1 hour.

Annual Cost Burden: N/A.

Needs and Uses: The Commission is extending this information collection (no change) for the three year OMB clearance. In 2001, the Commission sought comment on streamlining our Part 32 chart of accounts, modified our affiliate transaction rules, and revised our expense limits rules. In addition, the NPRM sought comment on streamlining the accounting and reporting requirements specifically for mid-sized carriers by eliminating mandatory CAM filing and CAM audits for those carriers. The NPRM also proposed raising the indexed revenue threshold to $200 million. In addition, with respect to ARMIS reporting requirements, the NPRM sought comment on revising various ARMIS reports. The proposals sought to eliminate or substantially simplify the reporting requirements for both large incumbent LECs and mid-sized incumbent LECs.

OMB Control No.: 3060-0782.

Title: Petitions for Limited Modification of LATA Boundaries to Provide Expanded Local Calling Service (ELCS) at Various Locations.

Form No.: N/A.

Type of Review: Extension of a currently approved collection.

Respondents: Business or other for profit.

Number of Respondents: 20 respondents; 100 responses.

Estimated Time Per Response: 8 hours.

Frequency of Response: On occasion reporting requirement.

Total Annual Burden: 800 hours.

Annual Cost Burden: N/A.

Needs and Uses: The Commission has provided voluntary guidelines for filing expanded local calling service requests. These guidelines will allow the Commission to conduct smooth and continuous processing of these requests. The collection of information will enable the Commission to determine if there is a public need for expanded local calling service in each area subject to the request.

OMB Control No.: 3060-0786.

Title: Petitions for LATA Association Changes by Independent Telephone Companies.

Form No.: N/A.

Type of Review: Extension of a currently approved collection.

Respondents: Business or other for profit.

Number of Respondents: 20.

Estimated Time Per Response: 6 hours.

Frequency of Response: On occasion reporting requirement.

Total Annual Burden: 120 hours.

Annual Cost Burden: N/A.

Needs and Uses: The Commission has provided voluntary guidelines for filing LATA association change requests. These guidelines will allow the Commission to conduct smooth and continuous processing of these requests. The collection of information will enable the Commission to determine if there is a public need for changes in LATA association in each area subject to the request.

Federal Communications Commission.
Marlene H. Dortch,
Secretary.

[FR Doc. 03-29655 Filed 11-26-03; 8:45 am]

BILLING CODE 6712-01-P